DEPARTMENT OF TRANSPORTATION

Federal Aviation Administration

14 CFR Part 71

[Docket No. FAA-2014-0369; Airspace Docket No. 14-ANM-4]

RIN 2120-AA66

Modification of VOR Federal AirwayV-298 in the Vicinity of Pasco, WA

AGENCY: Federal Aviation Administration (FAA), DOT.

ACTION: Final rule.

SUMMARY: This action modifies VOR Federal airway V-298 in the vicinity of Pasco, WA. The FAA is taking this action due to the Pasco, WA (PSC), VHF Omnidirectional Range (VOR)/Distance Measuring Equipment (DME) facility that provides navigation aid (NAVAID) guidance for a portion of V-298, being relocated. This action will ensure the safety and efficient management of aircraft operating within the National Airspace System.

DATES: Effective date 0901 UTC, November 13, 2014. The Director of the Federal Register approves this incorporation by reference action under 1 CFR part 51, subject to the annual revision of FAA Order 7400.9 and publication of conforming amendments.

ADDRESSES: FAA Order 7400.9Y, Airspace Designations and Reporting Points, and subsequent amendments can be viewed online at http://www.faa.gov/air_traffic/publications/. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15. For further information, you can contact the Airspace Policy and Regulations Group, Federal Aviation Administration, 800 Independence Avenue SW., Washington, DC 20591; telephone: 202-267-8783.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

History

The Tri-Cities Airport, located in Pasco, WA, is the fourth largest air carrier airport in Washington State. In the past five years, the number of enplanements at the airport has increased by nearly 100,000 per year. To accommodate this unprecedented growth, the Port of Pasco is expanding the Tri-Cities Airport terminal to nearly double the size of the existing terminal. However, the terminal expansion project creates a proximity issue to one of the taxiways on the airfield (taxiway D) by aircraft that will push back from the gates at the expanded terminal, as well as encroaches into the PSC VOR 1,000 foot clear zone.

To resolve the terminal expansion proximity issue with taxiway D, approximately two thirds of the taxiway is being relocated to the northeast, away from the terminal, to establish a straight, parallel taxiway to runways 12/30 for the entire length of the taxiway. As a result of the portion of taxiway D effected by the terminal expansion being relocated, the new taxiway will run through the PSC VOR/DME site. To overcome the airport terminal expansion encroaching on the PSC VOR clear zone and, subsequently, the new taxiway D being relocated through the VOR/DME site, the NAVAID will be moved north 0.44 nautical miles, away from the airport terminal expansion and the taxiway relocation. Moving the PSC VOR/DME enables the NAVAID to be retained and continue providing ground-based navigation aid coverage for the existing VOR Federal airway segments it supports today.

Due to the PSC VOR/DME NAVAID being relocated, VOR Federal airway V-298 requires amendment action. The FAA is modifying this airway by changing the PSC VOR radial information used to identify the intersection point in the legal description using corrected radial information from the PSC VOR/DME in its new location. Since this action merely involves editorial changes in the legal descriptions of VOR Federal Airways, and does not involve a change in the dimensions or operating requirements of that airspace, notice and public procedure under 5 U.S.C. 553(b) are unnecessary.

The Rule

The FAA is amending Title 14, Code of Federal Regulations (14 CFR) part 71 to modify VOR Federal airway V-298. The PSC VOR/DME relocation, due to the Tri-Cities Airport terminal expansion and taxiway D relocation projects, has made this action necessary. The route modification is outlined below.

V-298: V-298 extends between the Seattle, WA, VORTAC and Gillette, WY, VOR. This action modifies the route segment between the Yakima, WA, VORTAC and the PSC VOR/DME by changing the PSC radial used to describe the intersection between the two NAVAIDs from the Pasco 274° radial to the Pasco 273° radial. Additionally, this action removes reference to a south alternate airway designation previously deleted by regulatory action published in the Federal Register (48 FR 54829, December 7, 1983).

The navigation aid radials cited in this action are stated relative to True north.

Domestic VOR Federal airways are published in paragraph 6010(a) of FAA Order 7400.9Y dated August 6, 2014, and effective September 15, 2014, which is incorporated by reference in 14 CFR 71.1. The VOR Federal airway listed in this document would be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9Y, Airspace Designations and Reporting Points, dated August 6, 2014 and effective September 15, 2014, is amended as follows:

Paragraph 6010(a) Domestic VOR Federal Airways

* * * * *

V-298 [Amended]

From Seattle, WA; INT Seattle 107° and Yakima, WA, 331° radials; Yakima; INT Yakima 129° and Pasco, WA, 273° radials; Pasco; Pendleton, OR; 74 miles, 43 miles 115 MSL, 99 MSL Donnelly, ID; 41 miles 99 MSL, 89 miles 145 MSL, Dubois, ID; 68 miles 130 MSL, Dunoir, WY; 62 miles 135 MSL, Boysen Reservoir, WY; 9 miles, 34 miles 105 MSL, Muddy Mountain,WY; to Gillette, WY.

* * * * *

Issued in Washington, DC, on September 11, 2014.
Ellen Crum,
Acting Manager, Airspace Policy and Regulations Group.

[FR Doc. 2014-22237 Filed 9-17-14; 8:45 am]

BILLING CODE 4910-13-P